NATIONAL CREDIT UNION ADMINISTRATION

Sunshine Act Meeting

Time and Date: 10 a.m., Thursday, July 22, 2004.

Place: Board Room, 7th Floor, Room 7047, 1775 Duke Street, Alexandria, VA 22314-3428.

Status: Open.

Matters to be Considered: 1. Quarterly Insurance Fund Report.

2. Reprogramming of NCUA's Operating Budget for 2004.

3. Proposed Rule: Part 708b of NCUA's Rules and Regulations, Mergers of Federally Insured Credit Unions; Voluntary Termination or Conversion of Insured Status.

4. Proposed Rule: Part 708a of NCUA's Rules and Regulations, Conversion of Insured Credit Unions to Mutual Savings Banks.

5. Final Rule: Part 705 of NCUA's Rules and Regulations, Community Development Revolving Loan Program for Credit Unions.

6. Final Rule: Parts 721 and 724 of NCUA's Rules and Regulations, Health Savings Accounts.

7. Final Rule: Part 745 of NCUA's Rules and Regulations, Share Insurance Coverage for Living Trust Accounts.

Recess: 11:15 a.m.

Time and Date: 11:30 a.m., Thursday, July 22, 2004.

Place: Board Room, 7th Floor, Room 7047, 1775 Duke Street, Alexandria, VA 22314-3428.

Status: Closed.

Matters To Be Considered: 1. One (1) Insurance Appeal. Closed pursuant to Exemption (6).

2. One (1) Personnel Matter. Closed pursuant to Exemptions (2) and (6).

Becky Baker,
Secretary of the Board.

[FR Doc. 04-16925 Filed 7-21-04; 8:45 am]

BILLING CODE 7535-01-M